OFFICE OF PERSONNEL MANAGEMENT

5 CFR Part 930

RIN 3206-AI08

Appointment, Pay, and Removal of Administrative Law Judges

AGENCY: Office of Personnel Management.

ACTION: Notice of withdrawal of proposed rulemaking.

SUMMARY: The Office of Personnel Management is withdrawing its proposal to revise the regulations on the appointment, pay, and removal of administrative law judges (published February 23, 1998, 63 FR 8874). The proposal contained several major revisions concerning the administrative law judge program. Because we plan to make additional changes to these regulations, we will publish a revised proposal and invite a new public comment.

FOR FURTHER INFORMATION CONTACT: Juanita Love on (202) 606-0810.

Office of Personnel Management
Janice R. Lachance,
Director.

[FR Doc. 00-27468 Filed 10-25-00; 8:45 am]

BILLING CODE 6325-01-P